DEPARTMENT OF LABOR

Employment and Training Administration

[TA-W-72,961; TA-W-72,961A]

Inteva Products, LLC Adrian, Michigan; Inteva Products, LLC Troy, Michigan; Amended Certification Regarding Eligibility To Apply for Worker Adjustment Assistance

In accordance with Section 223 of the Trade Act of 1974, as amended (“Act”), 19 U.S.C. 2273, the Department of Labor issued a Certification of Eligibility to Apply for Worker Adjustment Assistance on May 7, 2010, applicable to workers of Inteva Products, LLC, Adrian, Michigan. The notice was published in the Federal Register on May 28, 2010 (75 FR 30072).

At the request of the State agency, the Department reviewed the certification for workers of the subject firm. The workers are engaged in the production of component parts (automotive instruments and door panels) for automobiles.

New findings show that worker separations occurred during the relevant time period at the Troy, Michigan location of Inteva Products, LLC. The Troy, Michigan location provides human resources, administrative functions, engineering and financial services for the subject firm.

Accordingly, the Department is amending the certification to include workers of the Troy, Michigan location of Inteva Products, LLC.

The intent of the Department's certification is to include all workers of the subject firm who were adversely affected as a secondary component supplier of component parts (automotive instruments and door panels) for automobiles to a TAA certified firm.

The amended notice applicable to TA-W-72,961 is hereby issued as follows:

All workers of Inteva Products, LLC, Adrian, Michigan (TA-W-72,961 and Inteva Products, LLC, Troy, Michigan (TA-W-72,961A), who became totally or partially separated from employment on or after November 3, 2008, through May 7, 2012, and all workers in the group threatened with total or partial separation from employment on date of certification through two years from the date of certification, are eligible to apply for adjustment assistance under Chapter 2 of Title II of the Trade Act of 1974, as amended.

Signed in Washington, DC, this 29th day of June, 2010.
Del Min Amy Chen
Certifying Officer, Division of Trade Adjustment Assistance.

[FR Doc. 2010-17449 Filed 7-16-10; 8:45 am]

BILLING CODE 4510-FN-P